DEPARTMENT OF DEFENSE

Office of the Secretary

Meeting of the Department of Defense Military Family Readiness Council (MFRC); Change of Meeting Date and Time

AGENCY: Office of the Under Secretary of Defense for Personnel and Readiness, Department of Defense.

ACTION: Notice.

SUMMARY: Pursuant to Section 10 (a), Public Law 92-463, on September 26, 2011 (76 FR 59388-59389) the Department of Defense Military Family Readiness Council (MFRC) announced a meeting to be held on October 17, 2011. This notice announces that the meeting date and time has been changed to November 21, 2011, from 2 p.m. to 4 p.m. All other information in the original notice remains the same.

The meeting is open to the public, subject to the availability of space. Persons desiring to attend may contact Ms. Melody McDonald at 571-256-1738 or e-mail FamilyReadinessCouncil@osd.mil no later than 5 p.m. on Tuesday, November 15, 2011 to arrange for parking and escort into the conference room inside the Pentagon.

Interested persons may submit a written statement for consideration by the Council. Persons desiring to submit a written statement to the Council must notify the point of contact listed below no later than 5 p.m., Wednesday, November 16, 2011.

ADDRESSES: Pentagon Conference Center M1 (escorts will be provided from the Pentagon Metro entrance).

FOR FURTHER INFORMATION CONTACT: Ms. Melody McDonald or Ms. Betsy Graham, Office of the Deputy Under Secretary (Military Community & Family Policy), 4000 Defense Pentagon, Room 2E319, Washington, DC 20301-4000. Telephones (571) 256-1738; (703) 697-9283 and/or e-mail: FamilyReadinessCouncil@osd.mil.

Dated: October 5, 2011.
Aaron Siegel,
Alternate OSD Federal Register Liaison Officer, Department of Defense.

[FR Doc. 2011-26166 Filed 10-7-11; 8:45 am]

BILLING CODE 5001-06-P